DEPARTMENT OF ENERGY

Energy Information Administration

Notice To Withdraw Proposal for New Survey Form EIA-913, “Monthly and Annual Liquefied Natural Gas (LNG) Storage Reports”

AGENCY: Energy Information Administration (EIA), Department of Energy (DOE).

ACTION: Notice to Withdraw Proposal for New Survey Form EIA-913, “Monthly and Annual Liquefied Natural Gas (LNG) Storage Reports.”

SUMMARY: The EIA announces that it is withdrawing its proposal for new survey Form EIA-913, “Monthly and Annual Liquefied Natural Gas (LNG) Storage Reports.” The decision was made after considering both the public comments submitted regarding the proposed form as well as the most efficient and effective allocation of EIA resources directed toward EIA's mission of providing policy-independent data, forecasts, and analyses to promote sound policy making, efficient markets, and public understanding regarding energy and its interaction with the economy and the environment.

DATES: This notice becomes effective January 23, 2004.

ADDRESSES: Inquiries about this decision should be directed to Ms. Elizabeth Campbell. Contact by FAX (202-586-4420), e-mail (elizabeth.campbell@eia.doe.gov), or telephone (202-586-5590). Submission of requests by e-mail is preferred and recommended to expedite receipt and response. The mailing address is: Natural Gas Division (Attn: Elizabeth Campbell), EI-44, Forrestal Building, U.S. Department of Energy, Washington, DC 20585.

FOR FURTHER INFORMATION CONTACT: Requests for additional information should be directed to Elizabeth Campbell at the address listed above.

SUPPLEMENTARY INFORMATION:

I. Background

II. Current Actions

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA provides the public and other Federal agencies with opportunities to comment on collections of energy information conducted by EIA. As appropriate, EIA also requests comments on important issues relevant to the dissemination of energy information. Comments received help the EIA when preparing information collections and information products necessary to support EIA's mission.

On September 16, 2003, EIA issued a Federal Register notice (68 FR 54215) requesting public comments on the proposed new survey Form EIA-913, “Monthly and Annual Liquefied Natural Gas (LNG) Storage Reports.” The purpose of the survey would be to collect data on the inventory levels of LNG and operational capacities of active LNG storage facilities in the United States.

In the September 16, 2003 notice, EIA discussed the proposed survey as well as EIA's reasons for proposing it. EIA received nine (9) comments. These comments are available for review at: http://www.eia.doe.gov/oil_gas/natural_gas/survey_forms/eia913c.pdf.

EIA reviewed the proposed survey in light of the comments. EIA also reconsidered whether the proposed survey was the optimal use of EIA resources available for collecting and analyzing information on U.S. natural gas supplies.

II. Current Actions

The EIA announces its decision to withdraw its proposal for new survey Form EIA-913, “Monthly and Annual Liquefied Natural Gas (LNG) Storage Reports.” The decision was made after considering both the public comments submitted regarding the proposed form as well as the most efficient and effective allocation of EIA resources directed toward EIA's mission of providing policy-independent data, forecasts, and analyses to promote sound policy making, efficient markets, and public understanding regarding energy and its interaction with the economy and the environment. EIA will monitor the LNG market on an ongoing basis. If conditions change and EIA reconsiders proposing an LNG storage survey in the future, a Federal Register notice will be issued to request public comments.

Statutory Authority: Section 52 of the Federal Energy Administration Act (Pub. L. No. 93-275, 15 U.S.C. 790a).

Issued in Washington, DC, January 16, 2004.
Jay H. Casselberry,
Agency Clearance Officer, Energy Information Administration.

[FR Doc. 04-1439 Filed 1-22-04; 8:45 am]

BILLING CODE 6450-01-P